DEPARTMENT OF TRANSPORTATION

Research and Special Programs Administration

[Docket No. RSPA-03-15122; Notice 1]

Pipeline Safety: Petition for Waiver; Duke Energy Gas Transmission Company

AGENCY: Research and Special Programs Administration (RSPA), DOT.

ACTION: Notice; petition for waiver for extension of time.

SUMMARY: Duke Energy Gas Transmission Company (DEGT) petitioned the Research and Special Programs Administration's (RSPA) Office of Pipeline Safety (OPS) for a 12-month extension of time to comply with the provisions of 49 CFR 192.611(d), which require pipeline operators to confirm or revise the maximum allowable operating pressure within 18 months after a class location change.

DATES: Persons interested in submitting written comments on the waiver proposed in this notice must do so by July 11, 2003. Late-filed comments will be considered so far as practicable.

ADDRESSES: You may submit written comments by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Alternatively, you may submit written comments to the docket electronically at the following Web address: http://dms.dot.gov.

All written comments should identify the docket and notice numbers stated in the heading of this notice. Anyone who wants confirmation of mailed comments must include a self-addressed stamped postcard. To file written comments electronically, after logging on to http://dms.dot.gov, click on “Comment/Submissions.” You can also read comments and other material in the docket at http://dms.dot.gov. General information about our pipeline safety program is available at http://ops.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: James Reynolds by phone at 202-366-2786, by fax at 202-366-4566, by mail at DOT, RSPA, OPS, 400 Seventh Street, SW., Washington, DC, 20590, or by e-mail at james.reynolds@rspa.dot.gov.

SUPPLEMENTARY INFORMATION: DEGT petitioned RSPA/OPS for a waiver from compliance with 49 CFR 192.611(d) for selected gas transmission pipeline segments in Pennsylvania. DEGT is asking for an additional 12 months beyond the 18 months allowed by § 192.611(d) to present, discuss, and have RSPA/OPS review alternative actions to maintain an equal or higher level of safety.

Section 192.611(d) requires an operator to complete a class location change study whenever it believes an increase in population density may have caused a change in class location as defined in § 192.5. The operator must complete a study and confirm or revise its maximum authorized operating pressure within 18 months of the class location change. The operator is required to either reduce pressure or replace the pipe with thicker-walled pipe to lower pipe wall stress to acceptable percentages of specified minimum yield strength.

DEGT's waiver request for an extension of time is specific to four pipeline segments on Line 12 and Line 19, which are part of its Texas Eastern Pipeline System in the state of Pennsylvania. These segments are located in the towns of Entriken, Perulack, Bernville, and Bechtelsville. The pipelines are 24-inch and 30-inch in diameter and the class locations have changed from Class 1 to Class 2.

When these pipelines were built between 1954 through 1963, they were hydrotested to at least 100% of the pipe's specified minimum yield strength (SMYS) with the exception of 10 feet of pipe on the Bechtelsville discharge line, which was tested to 90% SMYS.

DEGT has internally inspected each of these pipelines. DEGT first inspected the pipelines in 1986 using Tuboscope's conventional magnetic flux leakage (MFL) tool. Between 1996 and 2002, DEGT performed a second inspection of these lines using Tuboscope's conventional MFL tool and Tuboscope's high resolution MFL tool.

During the same years, DEGT also inspected and evaluated the condition of the coal tar enamel pipeline coatings and evaluated the cathodic protection current demands on each of the pipelines. DEGT reported that the coatings were in good condition and that the cathodic protection systems were not experiencing excessive current demands.

Because DEGT has internally inspected its pipelines and performed other tests in excess of the minimum requirements of 49 CFR part 192, RSPA/OPS will consider granting DEGT a 12-month extension from the requirements of § 192.611 (d).

DEGT further seeks to present an alternative technical proposal for permanent waiver of compliance with § 192.611 by September 2003. RSPA/OPS will determine if the alternative will yield an equal or higher level of safety than that required by the regulation. If RSPA/OPS decides that the alternative will yield an equal or higher level of safety, we will issue a Federal Register notice by December 2003 announcing the proposed technical waiver of § 192.611. The notice will provide an opportunity for public comment. If RSPA/OPS does not believe DEGT's proposal will yield an equal or higher level of safety, DEGT will be required to fully comply with § 192.611 by September 2004.

Authority: 49 App. U.S.C. 60118(c) and 2015; and 49 CFR 1.53.

Issued in Washington, DC on June 5, 2003.
Stacey L. Gerard,
Associate Administrator for Pipeline Safety.

[FR Doc. 03-14695 Filed 6-10-03; 8:45 am]

BILLING CODE 4910-60-P